DEPARTMENT OF COMMERCE

Minority Business Development Agency.

[Docket No.: 000724217-4069-09]

Solicitation of Applications for the Minority Business Development Center (MBDC) Program

AGENCY: Minority Business Development Agency.

ACTION: Notice.

SUMMARY: The Minority Business Development Agency publishes this notice to clarify that the closing date for competitive applications for the Minority Business Development Center (MBDC) Program is March 12, 2004, as published in the original Federal Register Notice on February 11, 2004.

DATES: The closing date for applications for each MBDC project is March 12, 2004.

MBDA anticipates that awards for the MBDC program will be made with a start date of April 1, 2004. Completed applications for the MBDC program must be (1) mailed (USPS postmark) to the address below; or (2) received by MBDA no later than 5 p.m. Eastern Standard Time. Applications postmarked later than the closing date or received after the closing date and time will not be considered.

ADDRESSES: Applicants must submit one signed original plus two (2) copies of the application. Completed application packages must be submitted to: Office of Business Development, Minority Business Development Center Program Office, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance #10, 15th Street, NW., between Pennsylvania and Constitution Avenues.

FOR FURTHER INFORMATION CONTACT: For further information, contact the MBDA National Enterprise Center (NEC) for the geographic service area in which the project will be located or visit MBDA's Minority Business Internet Portal (MBDA Portal) at http://www.mbda.gov.

SUPPLEMENTARY INFORMATION: On February 19, 2004, MBDA published a Federal Register Notice revising the funding level for the MBDC program (69 FR 7725). Due to an inadvertent error, the February 19, 2004 notice incorrectly states the closing date for applications for the Minority Business Development Center (MBDC) program. MBDA publishes this notice to clarify that the closing date for competitive applications for the MBDC program is March 12, 2004, as published in the original Federal Register Notice on February 11, 2004 (69 FR 6642).

Dated: February 24, 2004.
Glenn Clark,
Budget Officer, Minority Business Development Agency.

[FR Doc. 04-4439 Filed 2-27-04; 8:45 am]

BILLING CODE 3510-21-P